DEPARTMENT OF AGRICULTURE

Forest Service

National Urban and Community Forestry Advisory Council

AGENCY: Forest Service, USDA.

ACTION: Notice of meeting.

SUMMARY: The National Urban and Community Forestry Advisory Council will meet in Salt Lake City, Utah, June 22-24, 2000. The purpose of the meeting is to discuss emerging issues in urban and community forestry.

DATES: The meeting will be held June 22-24, 2000.

ADDRESSES: The meeting will be held at the Little America Hotel & Towers, 500 South Main Street, Salt Lake City, Utah. A tour of local projects will be held on June 22 from 9 a.m. to 2 p.m.

Individuals who wish to speak at the meeting or to propose agenda items must send their names and proposals to Suzanne M. del Villar, Executive Assistant, National Urban and Community Forestry Advisory Council, 20628 Diane Drive, Sonora, CA 95370.

FOR FURTHER INFORMATION CONTACT: Suzanne M. del Villar, Cooperative Forestry Staff, (209) 536-9201.

SUPPLEMENTARY INFORMATION: The Challenge Cost-Share Grant categories, identified by the Council, are advertised annually to solicit proposals for projects to advance the knowledge of, and promote interest in, urban and community forestry. Pursuant to 5 U.S.C. 552b(c)(9)(B), the meeting will be closed from approximately 8:30 a.m. to 10:30 a.m. on June 24 in order for the Council to determine the categories for the 2001 Challenge Cost-Share grant program. Otherwise, the meeting is open to the public.

Persons who wish to bring urban and community forestry matters to the attention of the Council may file written statements with the Council staff before or after the meeting. Public input sessions will be provided and individuals who made written requests by June 9 will have the opportunity to address the Council at those sessions. Council discussion is limited to Forest Service staff and Council members.

Dated: May 15, 2000.
Dan Glickman,
Secretary.

[FR Doc. 00-13073 Filed 5-23-00; 8:45 am]

BILLING CODE 3410-11-M